DEPARTMENT OF AGRICULTURE

Submission for OMB Review; Comment Request

February 10, 2014.

The Department of Agriculture has submitted the following information collection requirement(s) to Office of Management and Budget (OMB) for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget, New Executive Office Building, 725 17th Street NW., Washington, DC 20502. Commenters are encouraged to submit their comments to OMB via email to: OIRA_Submission@omb.eop.gov or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Rural Utilities Service

Title: 7 CFR Part 1777, Section 306C Water & Waste Disposal (WWD) Loans & Grants.

OMB Control Number: 0572-0109.

Summary of Collection: Rural Utilities Service is authorized to make loans and grants under Section 306C of the Consolidated Farm and Rural Development Act (7.U.S.C. 1926c).

This program funds facilities and projects in low income rural communities whose residents face significant health risks. These communities do not have access to or are not served by adequate affordable water supply systems or waste disposal facilities. The loans and grants will be available to provide water and waste disposal facilities and services to these communities.

Need and Use of the Information: Eligible applicants submit an application package and other information to Rural Development field offices to develop or improve community water and waste disposal systems. In one percent of the cases an applicant will use the funds to enable individuals to connect to the applicant's system or improve residences to use the water or waste disposal system. In this situation, an applicant will make loans and grants to individuals and the applicant will submit an implementation plan, memorandum of agreement and use of funds report.

Description of Respondents: Not-for-profit institutions; individuals or households.

Number of Respondents: 1.

Frequency of Responses: Reporting: Annually.

Total Burden Hours: 9.

Charlene Parker,
Departmental Information Collection Clearance Officer.

[FR Doc. 2014-03157 Filed 2-12-14; 8:45 am]

BILLING CODE 3410-15-P